DEPARTMENT OF COMMERCE

International Trade Administration

[A-580-601, A-583-603]

Top-of-the-Stove Stainless Steel Cooking Ware from the Republic of Korea and Taiwan; Final Results of the Expedited Sunset Reviews of the Antidumping Duty Orders

AGENCY: Import Administration, International Trade Administration, Department of Commerce.

SUMMARY: On March 1, 2005, the Department of Commerce (“the Department”) initiated sunset reviews of the antidumping duty orders on top-of-the-stove stainless steel cooking ware (“cooking ware”) from the Republic of Korea (“Korea”) and Taiwan pursuant to section 751(c) of the Tariff Act of 1930, as amended (“the Act”). The Department conducted expedited (120-day) sunset reviews of these orders. As a result of these sunset reviews, the Department finds that revocation of the antidumping duty orders would be likely to lead to continuation or recurrence of dumping. The dumping margins are identified in the Final Results of Reviews section of this notice.

EFFECTIVE DATE: September 27, 2005.

FOR FURTHER INFORMATION CONTACT: Zev Primor, AD/CVD Operations, Office IV, Import Administration, International Trade Administration, U.S. Department of Commerce, 14th Street & Constitution Avenue, NW, Washington, DC 20230; telephone: (202) 482-4114.

SUPPLEMENTARY INFORMATION:

Background

On March 1, 2005, the Department published the notice of initiation of the second sunset reviews of the antidumping duty orders on cooking ware from Korea and Taiwan pursuant to section 751(c) of the Act. See Initiation of Five-Year (“Sunset”) Reviews, 70 FR 9919 (March 1, 2005). The Department received the Notice of Intent to Participate from Regal Ware, Inc.; Vita Craft Corporation; and Paper Allied Industrial Chemical & Energy Workers (Local 7-0850) (collectively “the domestic interested parties”), within the deadline specified in 19 CFR 351.218(d)(1)(i) (“Sunset Regulations”). The domestic interested parties claimed interested party status under sections 771(9)(C) and (D) of the Act, as manufacturers of a domestic-like product in the United States, and unions whose workers are engaged in the production of a domestic-like product in the United States.

We received complete substantive responses from the domestic interested parties within the 30-day deadline specified in 19 CFR 351.218(d)(3)(i). We received no responses from respondent interested parties with respect to any of the orders covered by these sunset reviews. As a result, pursuant to section 751(c)(4)(A) of the Act and 19 CFR 351.218(e)(1)(ii)(C)(2), the Department conducted expedited (120-day) sunset reviews of these orders for Korea and Taiwan.

Scope of the Orders

The merchandise subject to these antidumping orders is cooking ware from Korea and Taiwan. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the orders are stainless steel oven ware and stainless steel kitchen ware. The subject merchandise is currently classifiable under Harmonized Tariff Schedule of the United States (“HTSUS”) item numbers 7323.93.00 and 9604.00.00. The HTSUS item numbers are provided for convenience and Customs purposes only. The written description remains dispositive.

The Department has issued several scope clarifications for these orders. The Department found that “universal pan lids” are not within the scope of the orders (57 FR 57420 (December 4, 1992)) and Max Burton's StoveTop Smoker is within the scope of the orders (60 FR 36782 (July 18, 1995)). Certain stainless steel pasta and steamer inserts (63 FR 41545 (August 4, 1998)), certain stainless steel eight-cup coffee percolators (58 FR 11209, February 24, 1993), and certain stainless steel stock pots and covers are within the scope of the orders (57 FR 57420 (December 4, 1992)). Moreover, as a result of a changed circumstances review, the Department revoked the orders in part with respect to certain stainless steel camping ware: (1) made of single-ply stainless steel having a thickness no greater than 6.0 millimeters; and (2) consisting of 1.0, 1.5, and 2.0 quart saucepans without handles and with lids that also serve as fry pans (62 FR 3662 (January 24, 1997)).

Analysis of Comments Received

All issues raised in these reviews are addressed in the “Issues and Decision Memorandum for the Expedited Sunset Reviews of the Antidumping Duty Orders on Top-of-the-Stove Stainless Steel Cooking Ware from the Republic of Korea and Taiwan (“Decision Memorandum”) from Barbara E. Tillman, Acting Deputy Assistant Secretary for Import Administration, to Joseph A. Spetrini, Acting Assistant Secretary for Import Administration, dated September 27, 2005, which is hereby adopted by this notice. The issues discussed in the Decision Memorandum include the likelihood of continuation or recurrence of dumping and the magnitude of the margins likely to prevail if the orders were to be revoked. Parties can find a complete discussion of all issues raised in these reviews and the corresponding recommendations in this public memorandum which is on file in room B-099 of the main Commerce building.

In addition, a complete version of the Decision Memorandum can be accessed directly on the Web at http://ia.ita.doc.gov/frn/index.html. The paper copy and electronic version of the Decision Memorandum are identical in content.

Final Results of Reviews

We determine that revocation of the antidumping duty orders on cooking ware from Korea and Taiwan would be likely to lead to continuation or recurrence of dumping at the following weighted-average percentage margins:

Manufacturers/Exporters/Producers | Weighted-Average Margin (percent)
Korea
Bum Koo Industrial Co., Ltd. | *31.23
Dae Sung Industrial Co., Ltd. | 6.11
Hai Dong Stainless Industries, Co. | 12.14
Kyung Dong Industrial Co., Ltd. | 8.36
Namil Metal Co. Ltd. | 0.75
All Others | 8.10
Taiwan
Golden Lion Metal Industry Co., Ltd. | 15.08
Lyi Mean Industrial Co., Ltd. | 26.10
Song Far Industry Co., Ltd. | 25.90
All Others | 22.61

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752, and 777(i)(1) of the Act.

Dated: September 20, 2005.
Joseph A. Spetrini,
Acting Assistant Secretary for Import Administration.

[FR Doc. 05-19275 Filed 9-26-05; 8:45 am]

Billing Code: 3510-DS-S